DEPARTMENT OF TRANSPORTATION

Federal Highway Administration

Environmental Impact Statement: Valencia County, NM

AGENCY: Federal Highway Administration (FHWA), DOT.

ACTION: Notice of intent.

SUMMARY: The FHWA is issuing this notice to advise the public that an environmental impact statement (EIS) will be prepared for a proposed new east-west highway and Rio Grande river crossing in Valencia County, New Mexico.

FOR FURTHER INFORMATION CONTACT: Gregory D. Rawlings, Environmental Specialist, Federal Highway Administration, 604 W. San Mateo Road, Santa Fe, New Mexico 87505, telephone: (505) 820-2027; or F. Craig Conley, Environmental Program Manager, New Mexico State Highway and Transportation Department, P.O. Box 1149, Santa Fe, New Mexico 87504, telephone: (505) 827-5233.

SUPPLEMENTARY INFORMATION: The FHWA, in cooperation with the New Mexico State Highway and Transportation Department, will prepare an EIS for a proposed new highway that would link Interstate 25 (I-25) and New Mexico Highway 47 (NM 47) in Valencia County, NM. The study area encompasses a corridor approximately 4 miles wide and between I-25 and NM 47. The southern boundary of the corridor lies approximately 5 miles north of Reinken Road (NM Highway 309) through the City of Belen. The northern boundary of the corridor lies approximately 1.5 miles south of Main Street (NM Highway 6) through the Village of Los Lunas.

The need for a new east-west highway and river crossing that would connect I-25 and NM 47 is founded in several factors including rapid population growth, employment growth and congested roadways. Continuing population and employment growth is projected to occur on both sides of the Rio Grande in the project corridor, necessitating additional east to west travel. The current highway system to serve this growth is limited to two 4-lane highways spaced over 10 miles apart, and is projected to become severely congested. Alternatives to be considered by the EIS will include the No Action alternative and various route alternative(s) developed during the initial corridor study phase and scoping process. Alternatives are being developed with input from stakeholder jurisdictions, agencies, landowners, and the general public. The alternatives will also consider different lane configurations, access management concepts, roadway profiles, and system and demand management measures. Preliminary scoping for the project has included: (1) Introductory information sent to federal, state, tribal, and local agencies, public and private organizations, and individuals identified as potentially-interested or affected parties; (2) public information meetings conducted in the study area to solicit preliminary issues and concerns regarding the proposed action; (3) briefings to local jurisdictions; and, (4) meetings with various neighborhood groups, Native American groups and other stakeholder groups. A scoping letter describing the proposed action will be sent to interested agencies followed by a formal agency scoping meeting planned for Summer 2000. Additional public meetings will be held to discuss FHWA's intention to prepare an EIS. These meetings will provide an opportunity for additional public and agency input.

A public hearing will be held to present the findings of the Draft EIS (DEIS) during the public review period. The DEIS will be available for public and agency review and comment prior to the hearing.

To ensure that the full range of issues related to this proposed action are addressed all significant issues identified, comments and suggestions are invited from all interested parties. Comments or questions concerning the proposed action and EIS should be directed to the FHWA or NMSHTD at the addresses provided above.

(Catalogue of Federal Domestic Assistance Program Number 20.205, Highway Research, Planning and Construction. The regulations implementing Executive Order 12372 regarding intergovernmental consultation on Federal programs and activities and 23 U.S.C. 315; 49 CFR 1.48 apply to this program.)

Issued on April 26, 2000.
Gregory D. Rawlings,
Environmental Specialist, Santa Fe, New Mexico.

[FR Doc. 00-11221 Filed 5-4-00; 8:45 am]

BILLING CODE 4910-22-M